FEDERAL MARITIME COMMISSION

Ocean Transportation Intermediary Licenses Correction

In the Federal Register Notice published March 9, 2006 (71 FR 46) reference to the name of D.M.C. Logistics Incorporated is corrected to read: D.M.G. Logistics, Inc.

Dated: March 10, 2006.
Bryant L. VanBrakle,
Secretary.

[FR Doc. E6-3754 Filed 3-14-06; 8:45 am]

BILLING CODE 6730-01-P